DEPARTMENT OF TRANSPORTATION

National Highway Traffic Safety Administration

Commercial Motor Vehicle Crash Data Collection and Analysis Improvement

AGENCY: National Highway Traffic Safety Administration, DOT.

ACTION: Notice of availability—discretionary grants to assist states in improving or revising their commercial vehicle crash data collection procedures.

SUMMARY: This notice solicits proposals from States for projects to improve traffic records, specifically data collection and analysis on commercial motor vehicle crashes. Where deficiencies in reporting or recording of such crashes are identified, a state may seek funding to develop new or revised systems or procedures and/or policies to improve its reporting and recording procedures. The NHTSA will provide grant funds to selected States to carry out the projects for improvements in data collection and analysis, in accordance with section 225 of Public Law 106-159.

DATES: Proposals must be received at the office designated below by 3 p.m. on or before February 26, 2002.

ADDRESSES: Proposals must be submitted to the National Highway Traffic Safety Administration, Office of Contracts and Procurement (NAD-30), Attn: Mr. Joe Comella, 400 7th Street SW., Room 5301, Washington, DC 20590. All applications must include a reference to NHTSA Program Number DTNH22-01-G-07083.

FOR FURTHER INFORMATION CONTACT: Mr. Joe Comella, National Highway Traffic Safety Administration, Office of Contracts and Procurement (NAD-30). All questions and requests for copies may be directed by e-mail to jcomella@nhtsa.dot.gov or by telephone at 202-366-9568. Those desiring notification of receipt of their proposal submission must include a self-addressed, stamped envelope or postcard. Technical questions relating to this program should be directed to either Kenneth Rutland (Kenneth.rutland@nhtsa.dot.gov) NHTSA, Room 6213 (NRD-33) 400 7th Street SW., Washington, DC 20590, 202-493-0055, or to John Brophy (John.Brophy@nhtsa.dot.gov) NHTSA, Room 6125 (NRD-33) 400 7th Street SW., Washington, DC 20590, 202-366-0328.

SUPPLEMENTARY INFORMATION:

Background

In 1999, reports from the General Accounting Office and the United States Department of Transportation Inspector General recommended that improvements be made in the Federal Motor Carrier Safety Administration (FMCSA) crash and enforcement data. The existing FMCSA crash database, the Motor Carrier Management Information System (MCMIS) crash file, is intended to be a census of all large commercial truck and bus crashes that result in a fatality, injury, or towed vehicle. However, many truck and bus crashes do not reach the MCMIS data processing unit, and many of the reports received are not complete. To address this situation, section 225 of Public Law 106-159 [H.R. 3419] (49 U.S.C. 31100 note) directs the Secretary of Transportation to carry out a program to improve the collection and analysis of data on crashes involving commercial motor vehicles, administered through the National Highway Traffic Safety Administration (NHTSA) in cooperation with the FMCSA. Section 225 requires the NHTSA to enter into agreements with the States to collect data and report it electronically to a central repository. In accordance with this requirement, this notice makes funds available to the states in the form of grants for improvements in data collection and analysis of commercial motor vehicle involved crashes.

Project Goal

The goal is to improve the quality, completeness, timeliness and quantity of data collected by the States about commercial motor vehicle crashes. This data will be used to evaluate program effectiveness, identify problems and trends, target spending, and the like. In addition, this data will be used to support FMCSA's enforcement programs. By capturing more complete and accurate data, drivers and carriers of commercial motor vehicles can appropriately be subjected to reviews of their operations and cited for violations.

The FMCSA and NHTSA seek to improve timeliness, completeness, accuracy and overall quality of data collected on commercial motor vehicle involved crashes. These improvements will facilitate the identification of problem drivers and carriers and provide a solid foundation of data on which safety analyses and program evaluation can be based. A State seeking to participate in this effort must be willing to explore and test new and proven methodologies and protocols, allowing for rapid electronic exchange of crash data. The State's proposal should seek to enhance the accuracy, speed and completeness of commercial motor vehicle crash information among the various components of the records system, including enforcement, driver licensing agencies, vehicle registration agencies, State departments of transportation, the courts, both within States and across State boundaries.

The scope of potential projects or plans need not be limited to system development, changes or enhancements. A State may have a system that is technically sound but hampered by State procedures, policies, laws, or legislation preventing the State from utilizing its system in the most efficient and effective manner. Therefore, the NHTSA will entertain proposals that may not involve the system directly, but would meet the project goals through indirect effects.

Project Requirements

Grant proposals submitted by the States must meet certain criteria. The grant proposal criteria are designed to assure maximum flexibility while ensuring that key State agencies and organizations participate in approved grant activities. A thorough evaluation design is another key requirement. Proposals must meet the following items to be considered:

1. Identify a lead Agency for the project.

2. Identify an interdisciplinary working group within the State, including but not limited to the state motor vehicle licensing agency, the crash records department, the vehicle registration agency, State law enforcement, Governor's Highway Safety Representative, and Motor Carrier Safety Assistance Program (MCSAP) representative.

3. Provide an analysis of existing systems or procedures, including discussion of the completeness, timeliness, quality and accuracy of the existing data collected in the MCMIS program.

4. Provide an estimate of the total number of reportable Commercial Motor Vehicle Crashes involving a fatality, injury, or towed vehicle, the total number reported to police enforcement (documented on PAR's and/or PAR Supplement Forms) and the total number of Commercial Motor Vehicle crashes that are entered into MCMIS. This is the gap (crash occurrence versus crashes entered into MCMIS) that this Grant funding targets for reduction.

5. Define new or improved system requirements to be implemented with funding under this Grant, including project scope, whether new technologies would be tested, and methods of gathering, integrating, and facilitating data exchange between various users. If the project is not system related, describe existing procedures, the problems they generate, proposed new procedures, anticipated outcome, and the means to measure the success or impact of the project or program.

6. Provide and submit a project evaluation plan and timelines for completion.

7. Define, analyze, and document user procedures, including projected barriers to project success.

8. Define the methodology for implementing the system or procedures.

9. Provide plans for preparing a final report, including the evaluation findings and recommendations for other States regarding the strengths and weaknesses of this project or program.

10. Provide a budget for the project.

11. Provide Monthly Progress Reports. The Grantee shall submit monthly progress reports to the COTR during the period of performance of this grant.

Eligibility Requirements

The grantee must be a state agency of one of the fifty States or the District of Columbia and involved with highway traffic safety, such as a State Highway Safety Office, Department of Transportation or other State agency with demonstrated activities in the highway traffic safety area, to ensure active involvement by highway traffic safety stakeholders.

Only one application should be submitted for a state. Because this Grant program requires extensive collaboration among the data owners in order to achieve the program objectives, it is envisioned that the grantee agency may need to actively involve the data owners in the development of the formal application.

A single organization within any state or area may not have all of the required data capabilities; the application should demonstrate methods to improve collaborative agreements with the data owners to facilitate the collection of commercial motor vehicle crash data.

This Grant is a parallel effort with the NHTSA's Commercial Vehicle Analysis Reporting System (CVARS) pilot effort with certain states. Those States that have been selected to participate in the CVARS pilot effort are ineligible for this Grant award.

Submission of Proposals

Proposals responding to this notice must remain valid for 90 days from the due date for submission of proposals, and may be funded at any time during that period. Submit one original and two copies of your application package to: The National Highway Traffic Safety Administration, Office of Contracts and Procurement (NAD-30), Attn: Joe Comella, 400 7th Street SW., Room 5301, Washington, DC 20590. Applications must be typed on one side of page only.

An additional two (2) copies will facilitate the review process, but are not required. Only complete application packages received on or by 3 p.m. on February 26, 2002, will be considered.

Application Contents

The application package must be submitted with OMB Standard Form 424 REV. 7-97, including 424A and 424B), Application for Federal Assistance, with the required information filled in and assurances signed (SF 424B). While the Form 424A deals with budget information and Section B identifies Budget Categories, the available space does not permit a level of detail which is sufficient to provide for a meaningful evaluation of the proposed total costs. A supplemental sheet shall be provided which presents a detailed breakdown of the proposed costs (direct labor, including labor category, level of effort, and rate; direct materials including itemized equipment; travel and transportation, including projected trips and number of people traveling; subcontractors/subgrants, with similar detail, if known; and overhead), as well as any costs the applicant proposes to contribute or obtain from other sources in support of the project.

Evaluation of Proposals and Award

Initially, all application packages will be reviewed to confirm that the applicant is an eligible recipient and to ensure that the application contains all of the items specified in the Project Requirement and Application Content section of this announcement. Each complete application from an eligible recipient will then be evaluated by an Evaluation committee comprised of representatives from the NHTSA, FMCSA, and other traffic records experts. The panel will evaluate each proposal, based on the following factors:

1. The technical competency of the proposal and the likeliness of reducing the gap between the number of CMV crashes occurring and number entered into MCMIS and the amount of the reduction. (50%)

2. The reasonableness and adequacy of the cost and personnel resources proposed to complete the requirements in a timely manner. (30%)

3. The potential for this state (and potentially the portability of this improvement to other states) to utilize the improvements in the full-scale CVARS project. (20%)

Project Funding

NHTSA's intent is to provide up to $2,600,000 funding in FY 2002. States are invited to submit proposals outlining their projects to the NHTSA. This program will not require matching funds. However, States are encouraged to explore other funding sources in both the private and public sectors to implement improved data collection and analysis of commercial motor vehicle involved crashes and traffic records in general. NHTSA contemplates making eight to fifteen multiple awards from the proposals submitted.

Terms and Conditions of the Award

Prior to award, each grantee must comply with the certification requirements of 49 CFR part 20, Department of Transportation New Restrictions on Lobbying, and 49 CFR part 29, Department of Transportation Government-wide Debarment and Suspension (Non-procurement) and Government wide Requirements for Drug Free Workplace (Grants).

During the effective performance period of Cooperative Agreements awarded as a result of this announcement, the agreement shall be subject to the National Highway Traffic Safety Administration's General Provisions for Assistance Agreements.

Reporting Requirements and Deliverables

1. Detailed Action Plan and Schedule. Within 30 days after award, the grantee shall deliver a detailed action plan which details the existing state procedures for reporting CMV crash data; and a schedule outlining the methods that will be employed to improve reporting. This detailed action plan will be subject to the approval of NHTSA.

2. Monthly progress reports. During the performance, the grantee will provide letter-type written reports to the NHTSA COTR. These reports will compare what was proposed in the Plan of Action with actual accomplishments during the past month; what commitments have been generated; what follow-up and state-level support is expected; what problems have been experienced and what may be needed to overcome the problems; and what is specifically planned to be accomplished during the next reporting period. These reports will be submitted ten days after the end of each month.

3. Project Report. The grantee shall deliver to NHTSA, at the end of the project, a final report that describes the results of activities undertaken to improve CMV crash data collection. This report should include: the initial state of CMV reporting at the state level; methods, procedures, or technologies employed to improve reporting, obstacles encountered, improvements initiated, evaluation findings and recommendations for other States regarding the strengths and weaknesses of this project or program. The grantee shall supply the NHTSA COTR one camera read versions of the documents, as printed and one copy on appropriate media (diskette, Syquest disk, etc.) of the document in the original program format that was used for the printing process. Each of these component parts should be available on disk, properly labeled with the program format and the file names. A complete version of the assembled document shall be provided in portable document format (PDF) for placement of the report on the World Wide Web (WWW). This will be a file usually created with the Adobe Exchange program of the complete assembled document. The document must be completely assembled with all colors, charts, sidebars, photographs, and graphics. This shall be delivered to NHTSA on appropriate media. The grantee shall provide four additional hard copies of the final document.

An electronic copy of this document may be downloaded by accessing the Federal Register home page at http://www.nara.gov/nara/fedreg and the Government Printing Office database at http://www.access.gpo.gov/su_docs

Issued on: December 20, 2001.
Raymond R. Owings,
Associate Administration for Research and Development.

[FR Doc. 01-32022 Filed 12-27-01; 8:45 am]

BILLING CODE 4910-12-P